POSTAL SERVICE

39 CFR Parts 3 and 6

Bylaws of the Board of Governors of the United States Postal Service

AGENCY: Postal Service™.

ACTION: Final rule.

SUMMARY: This document includes several amendments to the Bylaws of the Board of Governors. Additions have been made to conform the Bylaws to existing law. Technical edits have also been made to clarify the language of the Bylaws. Amendments include the addition of decisions to be made by the Board of Governors and changes to the voting and quorum requirements for actions to be taken by the Board of Governors.

DATES: Effective date: November 17, 2022.

FOR FURTHER INFORMATION CONTACT: Michael J. Elston, Secretary of the Board of Governors, michael.j.elston@usps.gov, 202-268-7432.

SUPPLEMENTARY INFORMATION: On October 4, 2022, the Board of Governors approved amendments to its Bylaws to address a variety of issues. Additions have been made to conform the Bylaws to existing law. Technical edits have been made to clarify the language of the Bylaws. The amendments include the addition of decisions that are reserved for the Board of Governors including consideration of and potential adjustment of funding requested in the Postal Regulatory Commission's budget for succeeding fiscal years as well as approval of programs established under 39 U.S.C. 3703. Amendments also include edits to clarify and expand upon the quorum and voting requirements for the Board of Governors.

List of Subjects

39 CFR Part 3

Board of Governors (Article III).

39 CFR Part 6

Meetings (Article VI).

For the reasons stated in the preamble, the Postal Service amends 39 CFR chapter I as set forth below:

PART 3—BOARD OF GOVERNORS (ARTICLE III)

1. The authority citation for part 3 is revised to read as follows:

Authority: 39 U.S.C. 202, 203, 205, 401 (2), (10), 402, 404(b), 414, 416, 504, 1003, 2005, 2011, 2802-2804, 3013, 3622, 3632, 3642, 3652, 3654, 3691, 3703; 5 U.S.C. 552b(g), (j); 5 U.S.C. App.; Pub. L. 107-67, 115 Stat. 514 (2001).

§ 3.4 Matters reserved for decision by the Governors.

2. Amend § 3.4 by:

a. Revising paragraph (i) to read as follows:

(i) Appointment and removal (in conjunction with Commissioners of the Postal Regulatory Commission) of the Inspector General under 39 U.S.C. 202(e).

b. Adding paragraphs (o) and (p) to read as follows:

(o) Consideration and potential adjustment of the funding requested in the Postal Regulatory Commission's budget for the succeeding fiscal year as required by 39 U.S.C. 504(d).

(p) Approval of any program established under 39 U.S.C. 3703 to enter into agreements with agencies of state, local or tribal governments to provide property or non-postal services to the public on behalf of such agencies for non-commercial purposes.

PART 6—MEETINGS (ARTICLE VI)

1. The authority citation for part 6 is revised to read as follows:

Authority: 39 U.S.C. 202, 205, 401(2), (10), 504, 1003, 3622, 3632, 3703; 5 U.S.C. 552b(e), (g).

§ 6.6. Quorum and voting.

2. Amend § 6.6 by:

a. Revising the introductory text to read as follows:

Except for matters considered through the notation voting process described in § 6.7, the Board acts by resolution upon a vote of those members who attend a meeting in accordance with § 6.4. No proxies are allowed in any vote of the members of the Board. As provided by 39 U.S.C. 205(c), any six (6) members constitute a quorum for the transaction of business by the Board, and a resolution requires a favorable vote of a majority of those members who are present, except as follows:

b. Removing the semicolons at the end of paragraphs (a), (b), and (c) and adding a period in their respective places.

c. Removing “and;” at the end of paragraph (d) and adding a period in its place.

d. Revising paragraph (g) to read as follows:

(g) In the appointment of the Inspector General, 39 U.S.C. 202(e) requires a favorable vote of a majority of the Governors then in office and of a majority of the Commissioners of the Postal Regulatory Commission then in office.

e. Adding paragraphs (h), (i), and (j) to read as follows:

(h) In removing the Inspector General for cause, 39 U.S.C. 202(e) requires the written concurrence of at least 7 Governors and 3 Commissioners of the Postal Regulatory Commission.

(i) In adjusting the funding requested in the Postal Regulatory Commission's budget for the succeeding fiscal year, 39 U.S.C. 504(d) requires a unanimous written decision of the Governors then holding office, issued no later than 30 days after receiving the budget.

(j) In approving a program established under 39 U.S.C. 3703 to enter into agreements with agencies of state, local or tribal governments to provide property or non-postal services to the public on such agencies' behalf, 39 U.S.C. 3703(c) requires a recorded and publicly available vote of a majority of the Governors then holding office.

Michael J. Elston,
Secretary of the Board of Governors.

[FR Doc. 2022-24285 Filed 11-16-22; 8:45 am]

BILLING CODE 7710-12-P